DEPARTMENT OF HEALTH AND HUMAN SERVICES

Centers for Medicare & Medicaid Services

[Document Identifier: CMS-906, CMS-1696, and CMS-10167]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: The Fiscal Soundness Reporting Requirements; Use: CMS is assigned responsibility for overseeing all Medicare Advantage Organizations (MAO) on-going financial performance. CMS needs the requested collection of information to establish that each MAO maintains a fiscally sound organization. Form Number: CMS-906 (OMB# 0938-0469); Frequency: Yearly; Affected Public: Business or other for-profits and not-for-profit institutions; Number of Respondents: 700; Total Annual Responses: 700; Total Annual Hours: 233.

2. Type of Information Collection Request: Revision of a currently approved collection; Title of Information Collection: Appointment of Representative; Use: This form will be completed by beneficiaries, providers and suppliers who wish to appoint representatives to assist them with obtaining initial determinations and filing appeals. The appointment of representative form must be signed by the party making the appointment and the individual agreeing to accept the appointment. Form Number: CMS-1696 (OMB# 0938-0950); Frequency: Occasionally; Affected Public: Individuals or households and business or other for-profits; Number of Respondents: 268,268; Total Annual Responses: 268,268; Total Annual Hours: 67,067.

3. Type of Information Collection Request: Revision of a currently approved collection; Title of Information Collection: Competitive Acquisition Program for Medicare Part B Drugs: CAP Physician Election Agreement; Use: The Competitive Acquisition Program (CAP) is required by Section 303(d) of the Medicare Modernization Act (MMA), which amended Title XVIII of the Social Security Act (the Act) by adding a new section 1847(B), which establishes a competitive acquisition program for the payment for Part B covered drugs and biologicals furnished on or after January 1, 2006. Physicians are given a choice between buying and billing these drugs under the average sales price (ASP) system, or obtaining these drugs from vendors selected in a competitive bidding process. Section 108 of the Medicare Improvements and Extension Act under Division B, Title I of the Tax Relief Health Care Act of 2006 amended Section 1847(b)(a)(3) of the Act and requires that CAP implement a post payment review process.

The CAP Physician Election Agreement is used annually by physicians to elect to participate in the CAP or to make changes to the previous year's selections. The information collected by these documents is used by CMS, its Medicare contractor, and the approved CAP vendor to meet programmatic requirements pertaining to physician election as established by the MMA. Form Number: CMS-10167 (OMB# 0938-0955); Frequency: Yearly; Affected Public: Business or other for-profits; Number of Respondents: 3800; Total Annual Responses: 3800; Total Annual Hours: 7600.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB desk officer at the address below, no later than 5 p.m. on July 14, 2008.

OMB Human Resources and Housing Branch, Attention: OMB Desk Officer, New Executive Office Building, Room 10235, Washington, DC 20503, Fax Number: (202) 395-6974.

Dated: June 5, 2008.
Michelle Shortt,
Director, Regulations Development Group, Office of Strategic Operations and Regulatory Affairs.

[FR Doc. E8-13095 Filed 6-12-08; 8:45 am]

BILLING CODE 4120-01-P